DEPARTMENT OF LABOR

Employment and Training Administration

[NAFTA-04468 and NAFTA-04468A]

OBG Manufacturing/Distribution Company, Oshkosh B'Gosh, Inc., Liberty KY; OBG Manufacturing/Distribution Company; Oshkosh B'Gosh, Inc., Albany, KY; Amended Certification Regarding Eligibility To Apply for NAFTA Transitional Adjustment Assistance

In accordance with Section 250(a), Subchapter D, Chapter 2, Title II, of the Trade Act of 1974, as amended (19 USC 2273), the Department of Labor issued a Certification of Eligibility to Apply for NAFTA Transitional Adjustment Assistance on April 3, 2001, applicable to workers of OBG Manufacturing Company, OshKosh B'Gosh, Inc., Liberty, Kentucky. The notice was published in the Federal Register on May 2, 2001 (66 FR 22008).

At the request of the company, the Department reviewed the certification for workers of the subject firm.

New information shows that worker separations occurred at the Albany, Kentucky facility of OBG Manufacturing Company, OshKosh B'Gosh, Inc. The workers are engaged in employment related to the production of children's apparel.

Accordingly, the Department is amending the certification to cover workers of OBG Manufacturing Company, OshKosh B'Gosh, Inc., Albany, Kentucky.

The intent of the Department's certification is to include all workers of OGB Manufacturing Company, OshKosh B'Gosh, Inc. adversely affected by increased imports of children's apparel from Mexico.

The amended notice applicable to NAFTA-04468 is hereby issued as follows:

All workers of OBG Manufacturing Company, OshKosh B'Gosh, Inc., Liberty, Kentucky (NAFTA-04468) and Albany, Kentucky (NAFTA-04468A) who became totally or partially separated from employment on or after January 12, 2000, through April 3, 2003, are eligible to apply for NAFTA-TAA under Section 250 of the Trade Act of 1974.

Signed in Washington, DC, this 4th day of September, 2001.
Edward A. Tomchick,
Director, Division of Trade Adjustment Assistance.

[FR Doc. 01-23536 Filed 9-20-01; 8:45 am]

BILLING CODE 4510-30-M